NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 13, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (N1-584-11-2, 7 items 6 temporary items). Records relating to disaster response, including continuity of operations plans and directives, continuity of operations exercises, and files relating to agency responses to disasters. Proposed for permanent retention are files relating to major disasters.

2. Department of Agriculture, Grain Inspection, Packers, and Stockyard Administration (N1-545-08-1, 13 items, 12 temporary items). Records relating to organizations that provide official grain inspection and weighing services for the agency. Proposed for permanent retention are substantive reports such as annual summaries and comprehensive nonrecurring reports.

3. Department of the Army, Agency-wide (N1-AU-10-20, 1 item, 1 temporary item). Master files of an electronic information system used to coordinate community support, housing, medical, educational, and personnel services for Army family members with special needs. The files contain screenings, medical assessments, eligibility determinations, referrals, and evaluations.

4. Department of Education, Office of Management (N1-441-10-2, 11 items, 2 temporary items). Research and evaluation data that support analyses and studies relating to educational issues. Proposed for permanent retention are records documenting data collections, analyses, and studies of national impact or significant historical interest.

5. Department of Health and Human Services, Centers for Disease Control and Prevention (N1-442-09-1, 5 items, 3 temporary items). Minor and secondary research records including datasets, field records, project support and ancillary documents, and background information.

6. Department of Health and Human Services, Centers for Medicare & Medicaid Services (N1-440-11-2, 2 items, 2 temporary items). Records of pilot projects to test and evaluate new electronic systems before they are put to use, including correspondence, reports, charts, and forms.

7. Department of Health and Human Services, Office of the Secretary (DAA-0468-2011-0001, 1 item, 1 temporary item). Employee copies of receipts and other documentation relating to travel expenses.

8. Department of Health and Human Services, Office of the Secretary (DAA-0468-2011-0003, 1 item, 1 temporary item). Records relating to employment applications and interviews of non-selected applicants.

9. Department of Health and Human Services, Substance Abuse and Mental Health Services Administration (N1-511-09-2, 3 items, 1 temporary item). Raw data files of the National Survey of Drug Use and Health. Proposed for permanent retention are public use data files and survey reports.

10. Department of Justice, Federal Bureau of Investigation (N1-65-10-5, 39 items, 39 temporary items). Records of an electronic information system used for requesting and completing background checks on individuals attempting to purchase a firearm. Includes a new tracking system for appealing denials and contacting gun dealers.

11. Department of Justice, Federal Bureau of Investigation (N1-65-11-05, 4 items, 4 temporary items). Master file, system documentation, and backups of an electronic information system used to report on compensation claims for on-the-job injuries of agency employees.

12. Department of Transportation, Maritime Administration (N1-357-11-1, 2 items, 2 temporary items). Headquarters' copies of state maritime schools files and service obligation contracts.

13. Department of Transportation, Maritime Administration (N1-357-11-2, 1 item, 1 temporary item). Service obligation contract files between the United States Merchant Marine Academy and its students.

14. Department of Transportation, National Highway Transportation Safety Administration (N1-416-09-2, 1 item, 1 temporary item). Master files of an electronic information system used to track and control motor vehicle importations.

15. Department of Transportation, National Highway Transportation Safety Administration (N1-416-09-4, 1 item, 1 temporary item). Master files of an electronic information system used to track and control agency correspondence.

16. Department of Transportation, National Highway Transportation Safety Administration (N1-416-11-1, 4 items, 4 temporary items). Inputs, outputs, and master files of an electronic information system used to track information on disconnected vehicle air bags.

17. Department of Transportation, Surface Transportation Board (N1-134-11-2, 1 item, 1 temporary item). Records of the Office of the Public Assistance's Governmental Affairs and Compliance division relating to fee waiver files.

18. Department of Veterans Affairs, Veterans Benefit Administration (N1-15-10-1, 1 item, 1 temporary item). Records relating to the ineligibility of veterans or their dependents in applying for benefits as a result of military service.

19. Federal Mine Safety and Health Review Commission, Office of the Executive Director (N1-470-09-1, 14 items, 10 temporary items). Meeting audio recordings, inter-agency agreement files, vendor files, central contracting log files, master files of an electronic information system used to track information resources, Web site management and operations files, Web site log files, and web content. Proposed for permanent retention are strategic plans, biographies of chairmen and commissioners, policies and procedure files, and annual reports.

20. National Archives and Records Administration, Space and Security Management Division (DAA-0064-2011-0001, 1 item, 1 temporary item). Records of the Holdings Protection Program, including training materials, holdings security procedures, vendor consultation, incident analysis, and outreach.

21. National Archives and Records Administration, Space and Security Management Division (DAA-0064-2011-0002, 10 items, 9 temporary items). Records of the Continuity and Emergency Planning division, including policy development, preparedness training, evaluation, and response and recovery files. Proposed for permanent retention are reports regarding incidents resulting in loss of life or significant damage.

22. Social Security Administration, Office of Publications and Logistics Management (N1-47-09-3, 1 item, 1 temporary item). Master files of an electronic information system containing employer reported earnings about individuals who have been issued a Social Security Number and who may have earnings under Social Security.

23. Social Security Administration, Office of Publications and Logistics Management (N1-47-09-4, 1 item, 1 temporary item). Master files of an electronic information system containing account, payment, and beneficiary information for those entitled to receive benefits.

Dated: May 5, 2011.
Sharon G. Thibodeau,
Deputy Assistant Archivist for Records Services.

[FR Doc. 2011-11776 Filed 5-12-11; 8:45 am]

BILLING CODE 7515-01-P